DEPARTMENT OF TRANSPORTATION

Federal Aviation Administration

14 CFR Part 39

[Docket No. FAA-2022-1650; Project Identifier MCAI-2022-00210-T]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Supplemental notice of proposed rulemaking (SNPRM).

SUMMARY: The FAA is revising a notice of proposed rulemaking (NPRM) that would have applied to certain Airbus Canada Limited Partnership Model BD-500-1A11 airplanes. This action revises the NPRM by changing the applicability. The FAA is proposing this airworthiness directive (AD) to address the unsafe condition on these products. Since these actions would impose an additional burden over those in the NPRM, the FAA is requesting comments on this SNPRM.

DATES: The FAA must receive comments on this SNPRM by August 28, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1650; or in person at Docket Operations between 9 a.m. and 5 p.m., Monday through Friday, except Federal holidays. The AD docket contains the NPRM, this SNPRM, the mandatory continuing airworthiness information (MCAI), any comments received, and other information. The street address for Docket Operations is listed above.

Material Incorporated by Reference:

• For Transport Canada material that is proposed for incorporation by reference in this SNPRM, contact Transport Canada, Transport Canada National Aircraft Certification, 159 Cleopatra Drive, Nepean, Ontario K1A 0N5, Canada; telephone 888-663-3639; email TC.AirworthinessDirectives-Consignesdenavigabilite.TC@tc.gc.ca; website tc.canada.ca/en/aviation.

• For Airbus Canada Limited Partnership material that is proposed for incorporation by reference in this SNPRM, contact Airbus Canada Limited Partnership, 13100 Henri-Fabre Boulevard, Mirabel, Québec, J7N 3C6, Canada; telephone 450-476-7676; email a220_crc@abc.airbus; website a220world.airbus.com.

• You may view this service information at the FAA, Airworthiness Products Section, Operational Safety Branch, 2200 South 216th Street, Des Moines, WA. For information on the availability of this material at the FAA, call 206-231-3195. It is also available at regulations.gov under Docket No. FAA-2022-1650.

FOR FURTHER INFORMATION CONTACT: Steven Dzierzynski, Aviation Safety Engineer, FAA, 1600 Stewart Avenue, Suite 410, Westbury, NY 11590; telephone 516-228-7300; email 9-avs-nyaco-cos@faa.gov.

SUPPLEMENTARY INFORMATION:

Comments Invited

The FAA invites you to send any written relevant data, views, or arguments about this proposal. Send your comments to an address listed under ADDRESSES. Include “Docket No. FAA-2022-1650; Project Identifier MCAI-2022-00210-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this SNPRM.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Steven Dzierzynski, Aviation Safety Engineer, FAA, 1600 Stewart Avenue, Suite 410, Westbury, NY 11590; telephone 516-228-7300; email 9-avs-nyaco-cos@faa.gov. Any commentary that the FAA receives which is not specifically designated as CBI will be placed in the public docket for this rulemaking.

Background

The FAA issued an NPRM to amend 14 CFR part 39 by adding an AD that would apply to certain Airbus Canada Limited Partnership Model BD-500-1A11 airplanes. The NPRM published in the Federal Register on December 20, 2022 (87 FR 77763). The NPRM was prompted by AD CF-2022-04, dated February 14, 2022, issued by Transport Canada, which is the aviation authority for Canada (Transport Canada AD CF-2022-04). Transport Canada AD CF-2022-04 states that the nose radome lightning diverter strips on certain aircraft were painted in production; paint on the diverter strips can compromise the nose radome lightning protection. Reduced effectiveness of the diverter strips can lead to the puncture of the nose radome by lightning and potential arc attachment to antennas, structures, and other equipment in the area of the nose radome. The unsafe condition, if not addressed, could result in damage to the localizer or glideslope antennas, and consequent loss of instrument landing system localizer inputs or deviation information.

In the NPRM, the FAA proposed to require inspecting for paint on the diverter strips on the nose radome, and replacing the nose radome if necessary, as specified in a Transport Canada AD CF-2022-04.

You may examine the MCAI in the AD docket at regulations.gov under Docket No. FAA-2022-1650.

Actions Since the NPRM Was Issued

Since the FAA issued the NPRM, the FAA determined that the applicability of the proposed AD should be revised. The FAA has determined that the affected nose radomes may be installed as rotable spares on airplanes outside of the applicability of the NPRM, thereby subjecting those airplanes to the identified unsafe condition. Therefore, this proposed AD has been expanded to apply to airplanes equipped with nose radomes having specific part numbers and serial numbers. The FAA is proposing this AD to address the unsafe condition on these products.

Comments

The FAA received comments from one commenter, Delta Air Lines (Delta). The following presents the comments received on the NPRM and the FAA's response to each comment.

Request for Change to Applicability

Delta requested the proposed applicability, which references the applicability specified in Transport Canada AD CF-2022-04 that is based on the airplane serial numbers, to be changed to the part numbers and serial numbers of the nose radome listed in Airbus Canada Limited Partnership A220 Service Bulletin BD500-538009, Issue 002, dated June 2, 2022. Delta stated the nose radome is a rotable component and can be installed on any Model BD-500-1A11 airplanes.

The FAA agrees with the request for the reason provided. The FAA has revised the applicability in this proposed AD to specify airplanes equipped with the specific part numbers and serial numbers of the nose radome.

Request To Add Exception To Allow Use of Certain Service Information, Along With Painting of the Nose Radome Prior to Installation

Delta requested an exception be added to allow accomplishing Airbus Canada Limited Partnership A220 Service Bulletin BD500-538009, Issue 002, dated June 2, 2022, as an acceptable means of compliance with the requirements of this proposed AD in lieu of Transport Canada AD CF-2022-04, with the exception that the painting of the nose radome may be accomplished prior to installation. Delta pointed out that Airbus Canada Limited Partnership A220 Service Bulletin BD500-538009, Issue 002, dated June 2, 2022, contains the correct Aircraft Structural Repair Publication (ASRP) reference for painting of the nose radome as opposed to Airbus Canada Limited Partnership A220 Service Bulletin BD500-538009, Issue 001, dated April 8, 2022. In addition, Delta asserted that nose radomes are painted in the shop prior to installation on the line, and that painting the nose radome after installation, as detailed in Airbus Canada Limited Partnership A220 Service Bulletin BD500-538009, Issue 002, dated June 2, 2022, does not accommodate the regular maintenance procedure of the aircraft in service. Delta further asserted that the work instructions of Airbus Canada Limited Partnership A220 Service Bulletin BD500-538009, Issue 002, dated June 2, 2022, comply with the intent of Transport Canada AD CF-2022-04, since the discrepant nose radome is removed and an airworthy replacement is installed.

The FAA partially agrees. The FAA disagrees with revising this proposed AD to add Airbus Canada Limited Partnership A220 Service Bulletin BD500-538009, Issue 002, dated June 2, 2022, as an acceptable method of compliance, because paragraph (h)(2) of this proposed AD already provides it as an acceptable method of compliance. However, the FAA agrees that painting of the nose radome may be accomplished prior to installation. The painting of the nose radome after installation as detailed in Airbus Canada Limited Partnership A220 Service Bulletin BD500-538009, Issue 002, dated June 2, 2022, does not accommodate the regular maintenance procedure of the aircraft in service. The work instructions of Airbus Canada Limited Partnership A220 Service Bulletin BD500-538009, Issue 002, dated June 2, 2022, meet the intent of Transport Canada AD CF-2022-04, since the discrepant nose radome is removed and an airworthy replacement is installed. Transport Canada and Airbus Canada Partnership Limited have no objections to painting the nose radome prior to installation. The FAA has added paragraph (h)(2) to this proposed AD to allow painting of the nose radome before installation.

Request for Definition Clarification

Delta requested paragraph (j) of the proposed AD be revised to clearly define “refer to” and “in accordance with.” Delta suggested adding the following wording to paragraph (j) of this proposed AD (paragraph (k) of this proposed AD): “While performing corrective actions per A220 Service Bulletin BD500-538009, Issue 002, dated June 2, 2022, the words “refer to” are used and the operator has a procedure accepted by the FAA the accepted alternative procedure can be used. When the words “in accordance with” are used then the given procedure must be followed.” Delta reasoned that Airbus Canada Limited Partnership A220 Service Bulletin BD500-538009, Issue 002, dated June 2, 2022, lists the maintenance procedures to accomplish the work instructions as “refer to.” Since Delta has accomplished the repair per the service bulletin, the verbiage “refer to” has been followed allowing flexibility in the procedure to remove, install, and paint the nose radomes utilizing other FAA approved methods.

The FAA agrees to clarify. This proposed AD allows the use of Airbus Canada Limited Partnership A220 Service Bulletin BD500-538009, Issue 002, dated June 2, 2022, in lieu of Transport Canada AD CF-2022-04. The Procedure section of the Accomplishment Instructions of Airbus Canada Limited Partnership A220 Service Bulletin BD500-538009, Issue 002, dated June 2, 2022, is Required for Compliance (RC) and must be done to comply with this proposed AD, if the operator chooses to use that service bulletin. If a step is marked RC and a procedure or document must be followed to accomplish a task in a service bulletin, the appropriate terminology to cite the procedure or document is “in accordance with.” However, if a step is marked RC and a procedure or document may be followed to accomplish an action (e.g., the design approval holder's procedure or document may be used, but an FAA-accepted procedure could also be used), the appropriate terminology to use to cite the procedure or document is “refer to . . . as an accepted procedure.” Therefore, if the actions are cited as “refer to,” there is flexibility in the procedure to remove, install, and paint utilizing other FAA-approved methods. The FAA has not changed this proposed AD as a result of this comment.

Request for Repair Engineering Orders (REOs) To Be an Acceptable Method of Compliance

Delta requested that any REOs issued by Airbus Canada Limited Partnership that are approved by a design approval organization (DAO) be allowed as an acceptable method of compliance for paragraphs (h) and (j) of the proposed AD (paragraphs (h) and (k) of this proposed AD). Delta contended that the replacement of the nose radome or the replacement or repair of the painted over diverter strips address the unsafe condition of the proposed AD. Further, Delta asserted that the replacement procedure utilized to replace the nose radome, or the replacement or repair procedure utilized to repair a diverter strip is not critical to resolve the unsafe condition. Delta pointed out that the unsafe condition is resolved when the nose radome with painted over diverter strips is removed from service regardless of the procedure.

The FAA disagrees with giving automatic approvals for any REO issued as a method of compliance within this proposed AD. REOs are normally operator specific. The FAA does not consider it appropriate to include various provisions in an AD applicable only to individual airplane serial numbers or to a single operator's unique use of an affected airplane. Once the final rule is published, any person may request approval of an alternative method of compliance (AMOC) to use a REO under the provisions of paragraph (k)(1) of this proposed AD. This proposed AD has not been revised in this regard.

Request for Clarification To Allow Use of Additional Nose Radome Assemblies

Delta requested that the proposed AD be clarified to allow any effective nose radome per the A220 Illustrated Parts Data Publication (IPDP) BD500-A-J53-81-80-01AAA-941A or BD500-A-J53-81-80-02AAA-941A to be installed as an acceptable unit during accomplishment of the actions required by this proposed AD. Delta asserted that acceptable replacement units are not detailed in Transport Canada AD CF-2022-04 or Airbus Canada Limited Partnership A220 Service Bulletin BD500-538009, Issue 002, dated June 2, 2022; however, the service bulletin lists P/N C01204101-009 as a spare. Delta stated that any other nose radome listed in the IPDP provides the same level of safety.

The FAA agrees that IPDP BD500-A-J53-81-80-01AAA-941A and BD500-A-J53-81-80-02AAA-941A provide a more complete list of replacement nose radome assemblies that may be used. The FAA added paragraph (h)(2) to this proposed AD to allow use of nose radome assemblies P/N C01204101-003, P/N C01204101-005, P/N C01204101-007, P/N C01204101-009, and P/N C01204101-011.

Request for Credit Using Future Revisions of Certain Service Information

Delta requested credit for compliance with the requirements of the proposed AD to be granted if accomplished using Airbus Canada Limited Partnership A220 Service Bulletin BD500-538009, Issue 002, dated June 2, 2022, or future revisions.

The FAA disagrees with providing credit for Airbus Canada Limited Partnership A220 Service Bulletin BD500-538009, Issue 002, dated June 2, 2022. Paragraph (h)(2) of this proposed AD already allows the use of Airbus Canada Limited Partnership A220 Service Bulletin BD500-538009, Issue 002, dated June 2, 2022, therefore, providing credit in this proposed AD is not necessary.

The FAA also disagrees with granting credit for accomplishing the required actions using future revisions of Airbus Canada Limited Partnership A220 Service Bulletin BD500-538009, because the FAA may not refer to any document that does not yet exist in an AD. To allow operators to use later revisions of the referenced document (issued after publication of the AD), either the FAA must revise the AD to reference specific later revisions, or operators must request approval to use later revisions as an AMOC with the AD under the provisions of paragraph (k)(1) of this proposed AD. This proposed AD has not been revised in this regard.

Related Service Information Under 1 CFR Part 51

Transport Canada AD CF-2022-04 specifies procedures for inspecting for paint on the lightning diverter strips on the nose radome, and replacing the nose radome if the lightning diverter strips are painted.

The FAA also reviewed Airbus Canada Limited Partnership A220 Service Bulletin BD500-538009, Issue 002, dated June 2, 2022. This service information specifies procedures for inspecting for paint on the lightning diverter strips on the nose radome, and replacing and painting the nose radome if the lightning diverter strips are painted.

This material is reasonably available because the interested parties have access to it through their normal course of business or by the means identified in ADDRESSES section.

FAA's Determination

This product has been approved by the aviation authority of another country and is approved for operation in the United States. Pursuant to the FAA's bilateral agreement with this State of Design Authority, it has notified the FAA of the unsafe condition described in the MCAI and service information referenced above. The FAA is issuing this SNPRM after determining that the unsafe condition described previously is likely to exist or develop in other products of the same type design.

Certain changes described above expand the scope of the NPRM. As a result, it is necessary to reopen the comment period to provide additional opportunity for the public to comment on this SNPRM.

Proposed AD Requirements in This SNPRM

This proposed AD would require accomplishing the actions specified in Transport Canada AD CF-2022-04 described previously, except for any differences identified as exceptions in the regulatory text of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate Transport Canada AD CF-2022-04 by reference in the FAA final rule. This proposed AD would, therefore, require compliance with Transport Canada AD CF-2022-04 in its entirety through that incorporation, except for any differences identified as exceptions in the regulatory text of this proposed AD. Service information required by Transport Canada AD CF-2022-04 for compliance will be available at regulations.gov under Docket No. FAA-2022-1650 after the FAA final rule is published.

Differences Between This SNPRM and the MCAI

The applicability of Transport Canada AD CF-2022-04 applies to specific serial numbered airplanes. The applicability of this SNPRM applies to airplanes having a nose radome with specific part number and serial number.

Costs of Compliance

The FAA estimates that this AD, if adopted as proposed, would affect 7 airplanes of U.S. registry. The FAA estimates the following costs to comply with this proposed AD:

Estimated Costs for Required Actions
Labor cost | Parts cost | Cost per product | Cost on U.S. operators
6 work-hours × $85 per hour = $510 | $0 * | $510 | $3,570
* The FAA has received no definitive data on which to base the parts cost estimate for the nose radome replacement.

The FAA has included all known costs in its cost estimate. According to the manufacturer, however, some or all of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Canada Limited Partnership (Type Certificate Previously Held by C Series Aircraft Limited Partnership (CSALP); Bombardier, Inc.): Docket No. FAA-2022-1650; Project Identifier MCAI-2022-00210-T.

(a) Comments Due Date

The FAA must receive comments on this airworthiness directive (AD) by August 28, 2023.

(b) Affected ADs

None.

(c) Applicability

This AD applies to Airbus Canada Limited Partnership Model BD-500-1A11 airplanes, certificated in any category, with a nose radome having part number (P/N) C01204101-007 or P/N C01204101-009 and a serial number (S/N) S456997, S/N S570556, S/N S626945, S/N S866894, S/N T099675, S/N T471773, or S/N T595935.

(d) Subject

Air Transport Association (ATA) of America Code: 53, Fuselage.

(e) Unsafe Condition

This AD was prompted by a report that the nose radome lightning diverter strips on certain aircraft were painted in production; paint on the diverter strips can compromise the nose radome lightning protection. The FAA is issuing this AD to address reduced effectiveness of the diverter strips, which can lead to the puncture of the nose radome by lightning and potential arc attachment to antennas, structures, and other equipment in the area of the nose radome. The unsafe condition, if not addressed, could result in damage to the localizer or glideslope antennas, and consequent loss of instrument landing system localizer inputs or deviation information.

(f) Compliance

Comply with this AD within the compliance times specified, unless already done.

(g) Requirements

Except as specified in paragraph (h) of this AD: Comply with all required actions and compliance times specified in, and in accordance with, Transport Canada AD CF-2022-04, dated February 14, 2022 (Transport Canada AD CF-2022-04).

(h) Exception to Transport Canada AD CF-2022-04

(1) Where Transport Canada AD CF-2022-04 refers to its effective date, this AD requires using the effective date of this AD.

(2) Where Transport Canada AD CF-2022-04 specifies removing and installing a nose radome using certain aircraft maintenance publication data modules, this AD also allows accomplishing those actions in accordance with Airbus Canada Limited Partnership A220 Service Bulletin BD500-538009, Issue 002, dated June 2, 2022, with the exception that the painting of the nose radome can be accomplished prior to installation, and that the following nose radome assembly part numbers may be used: P/N C01204101-003, P/N C01204101-005, P/N C01204101-007, P/N C01204101-009, and P/N C01204101-011.

(i) Parts Installation Limitation

As of the effective date of this AD, no person may install, on any airplane, a nose radome having P/N C01204101-003, P/N C01204101-005, P/N C01204101-007, P/N C01204101-009, or P/N C01204101-011, unless it has been inspected in accordance with paragraph (g) of this AD.

(j) Credit for Previous Actions

This paragraph provides credit for actions required by paragraph (g) of this AD, if those actions were performed before the effective date of this AD using Airbus Canada Limited Partnership A220 Service Bulletin BD500-538009, Issue 001, dated April 8, 2022.

(k) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (l)(1) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Airbus Canada Limited Partnership's Transport Canada Design Approval Organization (DAO). If approved by the DAO, the approval must include the DAO-authorized signature.

(3) Required for Compliance (RC): Except as required by paragraph (k)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Additional Information

(1) For more information about this AD, contact Steven Dzierzynski, Aviation Safety Engineer, FAA, 1600 Stewart Avenue, Suite 410, Westbury, NY 11590; telephone 516-228-7300; email 9-avs-nyaco-cos@faa.gov.

(2) For service information identified in this AD that is not incorporated by reference is available at the addresses specified in paragraphs (m)(3) and (4) of this AD.

(m) Material Incorporated by Reference

(1) The Director of the Federal Register approved the incorporation by reference of the service information listed in this paragraph under 5 U.S.C. 552(a) and 1 CFR part 51.

(2) You must use this service information as applicable to do the actions required by this AD, unless this AD specifies otherwise.

(i) Airbus Canada Limited Partnership A220 Service Bulletin BD500-538009, Issue 002, dated June 2, 2022.

(ii) Transport Canada AD CF-2022-04, dated February 14, 2022.

(3) For Transport Canada AD CF-2022-04, contact Transport Canada, Transport Canada National Aircraft Certification, 159 Cleopatra Drive, Nepean, Ontario K1A 0N5, Canada; telephone 888-663-3639; email TC.AirworthinessDirectives-Consignesdenavigabilite.TC@tc.gc.ca; website tc.canada.ca/en/aviation.

(4) For Airbus Canada Limited Partnership material incorporated by reference in this AD, contact Airbus Canada Limited Partnership, 13100 Henri-Fabre Boulevard, Mirabel, Québec, J7N 3C6, Canada; telephone 450-476-7676; email a220_crc@abc.airbus; website a220world.airbus.com.

(5) You may view this service information at the FAA, Airworthiness Products Section, Operational Safety Branch, 2200 South 216th Street, Des Moines, WA. For information on the availability of this material at the FAA, call 206-231-3195.

(6) You may view this service information that is incorporated by reference at the National Archives and Records Administration (NARA). For information on the availability of this material at NARA, email fr.inspection@nara.gov, or go to: www.archives.gov/federal-register/cfr/ibr-locations.html.

Issued on July 8, 2023.
Michael Linegang,
Acting Director, Compliance & Airworthiness Division, Aircraft Certification Service.

[FR Doc. 2023-14880 Filed 7-13-23; 8:45 am]

BILLING CODE 4910-13-P